DEPARTMENT OF LABOR

Mine Safety and Health Administration

Petitions for Modification

The following parties have filed petitions to modify the application of existing safety standards under section 101(c) of the Federal Mine Safety and Health Act of 1977.

1. Pine Ridge Coal Company

[Docket No. M-2000-085-C]

Pine Ridge Coal Company, 50 School House Road, Seth, West Virginia 25181 has filed a petition to modify the application of 30 CFR 75.1002 (location of trolley wires, trolley feeder wires, high-voltage cables and transformers) to its Whites Branch Mine (I.D. No. 46-08827) located in Boone County, West Virginia. The petitioner requests a modification to its previously granted petition for modification, docket number M-98-004-C, allowing 2400 volt cables to be used inby the last open crosscut at the working continuous miner sections at the Pine Ridge Coal Company, Robin Hood No. 9 Mine (I.D. No. 46-02143), to be transferred to Pine Ridge Coal Company's Whites Branch Mine (I.D. No. 46-08827), where equipment will be transferred and production begins the first of August 2000. The petitioner asserts that the proposed alternative method would provide at least the same measure of protection as the existing standard.

2. The United Mine Workers of America

[Docket No. M-2000-086-C]

The United Mining Workers of America, P.O. Box 28, Castlewood, Virginia 24224 has filed a petition to modify the application of 30 CFR 75.1712-2 (location of surface facility) on behalf of the Sea “B” Mining Company, Silver Creek Mine (I.D. No. 44-16895) located in Tazewell County, Virginia. The petitioner requests modification of the existing standard to require suitable transportation be provided for miners traveling to and from the centrally located bathing facility. The petitioner states that the miners have to crawl in mud, coal dust, oil, grease, and other contaminants in the underground mine environment and then drive to the centrally located bathing facility which creates unsafe conditions for the miners, and conflicts with applicable state highway laws that promote safe operation of motor vehicles. The petitioner asserts that the existing standard would result in a diminution of safety to the miners.

3. The Pittsburgh & Midway Coal Mining Company

[Docket No. M-2000-087-C]

The Pittsburgh & Midway Coal Mining Company, P.O. Box 6518, Englewood, Colorado 80155-6518 has filed a petition to modify the application of 30 CFR 75.1700 (oil and gas wells) to its North River No. 1 Mine (I.D. No. 01-00759) located in Fayette County, Alabama. The petitioner proposes to plug and abandon oil and gas wells, and mine through the oil and gas wells with a longwall mining machine instead of maintaining a 300 foot barrier around the well. The petitioner asserts that the proposed alternative method would provide at least the same measure of protection as the existing standard.

4. Elk Run Coal Company, Inc.

[Docket No. M-2000-088-C]

Elk Run Coal Company, Inc., Box 497, Sylvester, West Virginia 25193 has filed a petition to modify the application of 30 CFR 75.1700 (oil and gas wells) to its White Knight Mine (I.D. No. 46-08055) located in Boone County, West Virginia. The petitioner proposes to plug and mine through oil and gas wells using specific procedures outlined in this petition for modification. The petitioner asserts that the proposed alternative method would provide at least the same measure of protection as the existing standard.

5. Elk Run Coal Company, Inc.

[Docket No. M-2000-089-C]

Elk Run Coal Company, Inc., Box 497, Sylvester, West Virginia 25193 has filed a petition to modify the application of 30 CFR 75.1700 (oil and gas wells) to its Castle Mine (I.D. No. 46-07009) located in Boone County, West Virginia. The petitioner proposes to plug and mine through oil and gas wells using the specific procedures outlined in this petition for modification. The petitioner asserts that the proposed alternative method would provide at least the same measure of protection as the existing standard.

6. Elk Run Coal Company, Inc.

[Docket No. M-2000-090-C]

Elk Run Coal Company, Inc., Box 497, Sylvester, West Virginia 25193 has filed a petition to modify the application of 30 CFR 75.350 (air courses and belt haulage entries) to its Castle Mine (I.D. No. 46-07009) located in Boone County, West Virginia. The petitioner requests a modification of the standard to allow air coursed through belt haulage entries to be used to ventilate active working places. The petitioner proposes to install a low-level carbon monoxide detection system in all belt entries at certain locations as an early warning fire detection system. The petitioner also proposes to adhere to other conditions. The petitioner asserts that the proposed alternative method would provide at least the same measure of protection as the existing standard.

7. Freeman United Coal Mining Company

[Docket No. M-2000-091-C]

Freeman United Coal Mining Company, 1999 Wabash Avenue, Suite 2008, Springfield, Illinois 62704-5364 has filed a petition to modify the application of 30 CFR 75.1909(b)(6) (nonpermissible diesel-powered equipment; design and performance requirements) to its Crown III Mine (I.D. No. 11-02632) located in Montgomery County, Illinois. The petitioner requests a modification of the standard to permit a diesel-powered road grader to be operated without front wheel brakes. The petitioner proposes to operate its diesel grader at a maximum speed of 10 miles per hour, lower the grader blade (mold board) to increase stopping capability in emergencies, and provide training for the grader operators on how to recognize appropriate levels of speed for different road and slope conditions. The petitioner asserts that the proposed alternative method would provide at least the same measure of protection as the existing standard.

8. 3-D Management Services, Inc.

[Docket No. M-2000-092-C]

3-D Management Services, Inc., P.O. Box 186, Madison, West Virginia 25130 has filed a petition to modify the application of 30 CFR 75.503 (permissible electric face equipment; maintenance) to its Campbells Creek #5 Mine (I.D. No. 46-08718) located in Kanawha County, West Virginia. The petitioner proposes to use a threaded ring and a spring-loaded device on battery plug connectors for mobile battery powered machines to prevent the plug connector from accidently disengaging while under load instead of using padlocks. The petitioner asserts that application of the existing standard would result in a diminution of safety to the miners and that the proposed alternative method would provide at least the same measure of protection as the existing standard.

9. Elk Run Coal Company, Inc.

[Docket No. M-2000-093-C]

Elk Run Coal Company, Inc., Box 497, Sylvester, West Virginia 25193 has filed a petition to modify the application of 30 CFR 75.1002-1(a) (location of other electric equipment; requirements for permissibility) to its White Knight Mine (I.D. No. 46-08055) located in Boone County, West Virginia. The petitioner proposes to use a Joy Technologies, Inc., high-voltage (4,160 volts) longwall mining machine at the face. The petitioner asserts that application of its alternative method will not result in a diminution of safety to the miners.

10. Elk Run Coal Company, Inc.

[Docket No. M-2000-094-C]

Elk Run Coal Company, Inc., Box 497, Sylvester, West Virginia 25193 has filed a petition to modify the application of 30 CFR 75.1002-1(a) (location of other electric equipment; requirements for permissibility) to its Castle Mine (I.D. No. 46-08055) located in Boone County, West Virginia. The petitioner proposes to use a Joy Technologies, Inc., high-voltage (4,160 volts) longwall mining machine at the face. The petitioner asserts that application of its alternative method will not result in a diminution of safety to the miners.

11. Contour Erection and Siding Systems, Inc., d/b/a Contour Steel

[Docket No. M-2000-006-M]

Contour Erection and Siding Systems, Inc., d/b/a/ Contour Steel, 17 Court Street, Buffalo, New York 14202 has filed a petition to modify the application of 30 CFR 56.15003 (protective footwear) to its American Rock Salt Mine (I.D. No. 30-03255) located in Livingston County, New York. The petitioner requests a modification of the existing standard to permit Contour employees who are Ironworkers, not to wear steel capped footwear while climbing structural columns, erecting reinforcing steel, or performing other work where foot protection would reduce their safety. The petitioner states that modification of the existing standard would apply only to Contour's employees who would be engaged in mining or other mine related work activities, and that application of the existing standard would compromise the safety of the Ironworkers and affect their job performance.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before September 11, 2000. Copies of these petitions are available for inspection at that address.

Dated: July 28, 2000.
Carol J. Jones,
Director, Office of Standards, Regulations, and Variances.

[FR Doc. 00-20316 Filed 8-9-00; 8:45 am]

BILLING CODE 4510-43-P